DEPARTMENT OF THE INTERIOR

National Park Service

[NPS-WASO-NAGPRA-23134; PPWOCRADN0-PCU00RP14.R50000]

Notice of Inventory Completion: Tennessee Department of Environment and Conservation, Division of Archaeology, Nashville, TN

AGENCY: National Park Service, Interior.

ACTION: Notice.

SUMMARY: The Tennessee Department of Environment and Conservation, Division of Archaeology, has completed an inventory of human remains and associated funerary objects in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Tennessee Department of Environment and Conservation, Division of Archaeology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Tennessee Department of Environment and Conservation, Division of Archaeology, at the address in this notice by June 2, 2017.

ADDRESSES: Tennessee Department of Environment and Conservation, Division of Archaeology, Michael C. Moore, 1216 Foster Avenue, Cole Bldg 3, Nashville, TN 37243, telephone 615-741-1588, ext. 109, email mike.c.moore@tn.gov.

SUPPLEMENTARY INFORMATION: Notice is here given in accordance with the Native American Graves Protection and Repatriation Act (NAGPRA), 25 U.S.C. 3003, of the completion of an inventory of human remains and associated funerary objects under the control of the Tennessee Department of Environment and Conservation, Division of Archaeology, Nashville, TN. The human remains and associated funerary objects were removed from Elizabethton, Carter County, TN.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Tennessee Department of Environment and Conservation, Division of Archaeology, professional staff in consultation with representatives of the Eastern Band of Cherokee Indians.

History and Description of the Remains

In 1977, human remains representing, at minimum, one individual were removed from the Carter Mansion site (40CR5) in Carter County, TN, by personnel of the Tennessee Division of Archaeology. The Carter Mansion site in Elizabethton, TN, is comprised of the late 18th century home and grounds of John and Landon Carter. Archeological investigations conducted during the 1970s by the Tennessee Division of Archaeology (TDOA) revealed prehistoric and protohistoric Native American components near the structure and along the grounds. The TDOA discovered the human remains and associated funerary objects during a structure restoration project (Smith 1979). During the course of excavation along the front exterior of the house, a burial pit containing the human remains was encountered immediately adjacent to the foundation base. The human remains and associated funerary objects have been curated by the TDOA since excavation. The human remains represent an adult male approximately 20-30 years old. No known individual was identified. Based on analysis of the associated funerary objects, the human remains were considered to be of a protohistoric Native American component. The 580 associated funerary objects are 381 marine gastropod beads; 164 marginella shell beads; 1 leptoxis shell bead; 5 bone beads; 2 Busycon shell ear pins; 2 split turkey bone pins; 15 Busycon shell beads; 1 pounded copper sheet; 1 fragmented woven bark matting (for copper sheet); 1 ceramic platter/bowl with rim notching on one side; 1 miniature incised ceramic vessel; 1 basal portion of an incised ceramic vessel; 1 smooth stone; 3 lithic debitage; and 1 pumpkin seed. The associated funerary objects are protohistoric to early historic Native American based upon the range and style of artifacts.

Determinations Made by the Tennessee Department of Environment and Conservation, Division of Archaeology

Officials of the Tennessee Department of Environment and Conservation, Division of Archaeology have determined that:

• Pursuant to 25 U.S.C. 3001(9), the human remains described in this notice represent the physical remains of one individual of Native American ancestry.

• Pursuant to 25 U.S.C. 3001(3)(A), the 580 objects described in this notice are reasonably believed to have been placed with or near individual human remains at the time of death or later as part of the death rite or ceremony.

• Pursuant to 25 U.S.C. 3001(2), there is a relationship of shared group identity that can be reasonably traced between the Native American human remains and associated funerary objects and Eastern Band of Cherokee Indians.

Additional Requestors and Disposition

Lineal descendants or representatives of any Indian tribe or Native Hawaiian organization not identified in this notice that wish to request transfer of control of these human remains and associated funerary objects should submit a written request with information in support of the request to Michael C. Moore, Tennessee Department of Environment and Conservation, Division of Archaeology, 1216 Foster Avenue, Cole Bldg 3, Nashville, TN 37243, telephone 615-741-1588, ext. 109, email mike.c.moore@tn.gov, by June 2, 2017. After that date, if no additional requestors have come forward, transfer of control of the human remains and associated funerary objects to the Eastern Band of Cherokee Indians may proceed.

The Tennessee Department of Environment and Conservation, Division of Archaeology is responsible for notifying the Eastern Band of Cherokee Indians that this notice has been published.

Dated: March 22, 2017.
Melanie O'Brien,
Manager, National NAGPRA Program.

[FR Doc. 2017-08870 Filed 5-2-17; 8:45 am]

BILLING CODE 4312-52-P